DEPARTMENT OF HOMELAND SECURITY

Coast Guard

33 CFR Part 161

[Docket No. USCG-2011-1024]

RIN 1625-AB81

Vessel Traffic Service Updates, Including Establishment of Vessel Traffic Service Requirements for Port Arthur, Texas and Expansion of VTS Special Operating Area in Puget Sound

AGENCY: Coast Guard, DHS.

ACTION: Proposed rule; correction.

SUMMARY: This document contains a correction to the notice of proposed rulemaking published in the Federal Register on September 10, 2012 (77 FR 55439), which proposes to revise and update the Vessel Traffic Service regulations in 33 CFR part 161.

DATES: Comments and related material must either be submitted to our online docket via http://www.regulations.gov on or before December 10, 2012, or reach the Docket Management Facility by that date.

ADDRESSES: You may submit comments identified by docket number USCG-2011-1024 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section in the notice of proposed rulemaking published in the Federal Register on September 10, 2012 (77 FR 55439) for instructions on submitting comments.

FOR FURTHER INFORMATION CONTACT: Lieutenant Commander Patricia Springer, CG-7413, U.S. Coast Guard, telephone 202-372-2576; email Patricia.J.Springer@uscg.mil. If you have questions on viewing or submitting material to the docket, call Ms. Renee V. Wright, Program Manager, Docket Operations, telephone 202-366-9826.

SUPPLEMENTARY INFORMATION:

Background

On September 10, 2012, the Coast Guard published a notice of proposed rulemaking (NPRM) (77 FR 55439) which proposes to revise certain Vessel Traffic Service (VTS) regulations in 33 CFR part 161. The proposed revisions include adding the Maritime Mobile Service Identifiers (MMSI) for Louisville and Los Angeles/Long Beach.

In the Regulatory Analysis of the NPRM, we said that we do not expect these revisions to result in additional costs to the public or industry (77 FR 55441). After publication of that NPRM, however, the Coast Guard realized that revising Table 161.12(c) for the purpose of adding an MMSI number for VTS Louisville and Los Angeles/Long Beach would impose Automatic Identification System (AIS) equipment costs for owners and operators of the vessel type identified in § 164.46(a)(3) and that operate in either of these two VTS areas. That action was not intended, and is the subject of a separate rulemaking project.¹

¹ On December 16, 2008, the Coast Guard published a Notice of Proposed Rulemaking entitled “Vessel Requirements for Notices of Arrival and Departure, and Automatic Identification System.” In this NPRM, the Coast Guard proposes to expand AIS applicability to all U.S. navigable waters. (73 FR 76295).

Need for Correction

Although the Coast Guard highly encourages the use of AIS in U.S. navigable waters, it was not the Coast Guard's intention, through this proposed rulemaking, to apply the AIS carriage requirements that are set forth in § 164.46 to vessels operating within VTS Louisville and Los Angeles/Long Beach waters. Currently, under existing Part 161, Note 1 to Table 161.12(c), the AIS broadcast and carriage requirements set forth in §§ 161.21 and 164.46 apply to each VTS location identified in Table 161.12(c) that are denoted with an MMSI number. Because the addition of VTS Louisville's and Los Angeles/Long Beach MMSI numbers to Table 161.12(c) would inadvertently impose AIS carriage requirements to certain categories of vessels operating in these VTS areas, the Coast Guard is making a conforming correction to Note 1 to Table 161.12(c) by adding, at the end of Note 1, the words “except for Louisville and Los Angeles/Long Beach.”

The following correction is issued based on authority under 33 U.S.C. 1223, 1231; 46 U.S.C. 70114, 70119; Public Law 107-295, 116 Stat. 2064; Department of Homeland Security Delegation No. 0170.1.

Correction

The proposed regulatory text of the notice of proposed rulemaking entitled “Vessel Traffic Service Updates, Including Establishment of Vessel Traffic Service Requirements for Port Arthur, TX and Expansion of VTS Special Operating Area in Puget Sound,” published September 10, 2012, is corrected as follows:

§ 161.12 [Corrected]

In proposed rule FR Doc. 2012-22164 published on September 10, 2012 (77 FR 55439), make the following correction: On page 55446, in the last sentence of Note 1 of Table 161.12(c), remove the period, and add, in its place, the words “except for Louisville and Los Angeles/Long Beach.”

Dated: October 9, 2012.
Kathryn A. Sinniger,
Chief, Office of Regulations and Administrative Law, U.S. Coast Guard.

[FR Doc. 2012-25239 Filed 10-17-12; 8:45 am]

BILLING CODE 9110-04-P